DEPARTMENT OF ENERGY

Federal Energy Regulatory Commission

[Docket No. PF08-10-000]

Atmos Pipeline and Storage, LLC; Notice of Intent To Prepare an Environmental Assessment for the Proposed Fort Necessity Gas Storage Project, Request for Comments on Environmental Issues

May 14, 2008.

The staff of the Federal Energy Regulatory Commission (FERC or Commission) will prepare an environmental assessment (EA) that will address the environmental impacts of the Fort Necessity Gas Storage Project (project) proposed by Atmos Pipeline and Storage, LLC (Atmos). The Commission will use the EA in its decision-making process to determine whether or not to authorize the project. This notice explains the scoping process the Commission will use to gather input from the public and interested agencies on the project. Your input will help us determine the issues that need to be evaluated in the EA. Please note that the scoping period will close on June 13, 2008.

This notice is being sent to affected landowners; federal, state, and local government agencies; elected officials; environmental and public interest groups; Native American tribes; other interested parties; and local libraries and newspapers. We encourage government representatives to notify their constituents of this planned project and encourage them to comment on their areas of concern.

If you are a landowner receiving this notice, you may be contacted by an Atmos representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Atmos proposes to develop a natural gas storage facility within the Fort Necessity salt dome near Winnsboro, Franklin Parish, Louisiana. The proposed storage design would have the capacity to store 15 Bcf of working gas and 9.75 Bcf of cushion gas, an average daily injection rate of 375 MMscfd, a maximum daily injection rate of 500 MMscfd, and a maximum daily withdrawal rate of 750 MMscfd. Project facilities would also include interconnections to existing interstate natural gas transmission systems. The proposed project includes:

• A new natural gas storage facility consisting of three 7.1 million barrel, or 8.25 billion cubic feet (Bcf), each with a cavern well and well pad;

• A 42,300 horsepower (hp) compressor station consisting of nine 4,700 hp reciprocating compressors (five would be driven by electric motors and four would be driven by natural gas motors with emission controls), and ancillary facilities;

• And electric substation;

• A dehydration facility rated for 500 million standard cubic feet per day (MMscfd);

• A leaching plant with associated pumps, tanks, and piping;

• About 0.02 mile of 24-inch-diameter interconnecting gas pipeline and a metering station to tie into an existing 30-inch-diameter Tennessee Gas Pipeline (TGP) pipeline;

• About 0.9 mile of 36-inch-diameter interconnecting gas pipeline and a metering station to tie into the existing 30- and 36-inch-diameter Columbia Gulf Transmission (CGT) pipelines;

• About 6.5 miles of 30-inch-diameter interconnecting gas pipeline and a metering station to tie into the existing 30- and 36-inch-diameter ANR Pipeline Company (ANR) pipeline;

• About 0.9 mile of gas pipeline from the compressor station to the three cavern wells (about 0.1 mile of 24-inch-diameter pipeline and about 0.8 mile of 30-inch-diameter pipeline);

• About 0.3 mile of 2-inch-diameter instrument air pipeline from the leaching plant to the three solution-mining wells;

• About 0.3 mile of 2-inch-diameter diesel injection pipeline from the leaching plant to the three solution-mining wells;

• Four water supply wells and well pads;

• About 0.4 mile of water supply pipeline from the water supply wells to the leaching plant including about 0.1 mile of 10-inch-diameter pipeline, 0.2 mile of 12-inch-diameter, and 0.1 mile of 20-inch-diameter pipeline;

• About 0.3 mile of 20-inch-diameter pipeline to return brine from the solution-mining wells to the leaching plant;

• Four or five brine disposal wells;

• About 2.2 miles of brine disposal pipeline from the leaching plant to the brine disposal wells including about 1.4 miles of 16-inch-diameter , 0.2 mile of 12-inch-diameter, and 0.6 mile of 8-inch-diameter pipeline;

• Appurtenant facilities including delivery piping, line heaters, pressure vessels, and valves; and

• About 5.5 miles of access roads, 1.8 miles of which would be new roads.

Atmos states that the project would provide new storage capacity for interstate commerce. It would interconnect with the existing interstate pipelines operated by TGP, CGT, and ANR. Atmos proposes beginning construction in 2009 and to have Cavern No. 1 in service by 2011, Cavern No. 2 in service by 2013, and Cavern No. 3 in service by 2015.

The general location of the proposed pipeline and associated facilities are shown in the figure included as Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Atmos.

Nonjurisdictional Facilities

In addition to the facilities proposed by Atmos, the proposed project has associated facilities that do not come under the jurisdiction of the Commission. The local electricity provider, Entergy Corporation, would construct an electric power line to Atmos's proposed electric substation. We ² have determined that these nonjurisdictional facilities will be addressed in the EA.

² “We,” “us,” and “our” refer to the environmental staff of the FERC's Office of Energy Projects.

Land Requirements for Construction

As proposed, construction of the project would require about 168.6 acres. Of this total, about 30.6 acres would be required permanently for aboveground facilities (including the compressor station, leaching plant, meter stations, wells, and electrical substation), and 5.6 acres would be required for permanent access roads. Atmos would construct the storage facilities within three parcels of land: a 254-acre parcel Atmos would own and two parcels totaling about 989 acres that are privately owned.

Atmos would use a 100-foot-wide construction right-of-way to construct the proposed 24-inch-diameter TGP interconnect gas pipeline, the 36-inch-diameter CGT interconnect gas pipeline, and the 30-inch-diameter ANR interconnect gas pipeline. The permanent right-of-way width for these pipelines would be 50 feet. Atmos would require about 78.7 acres to construct these facilities and would require about 39.4 acres for their operation. Atmos would use a common 125-foot-wide right-of-way for the access roads and pipelines to each of the three cavern storage wells. The pipeline from the water supply wells to the leaching plant, and the cavern gas pipeline between the compressor station and the leaching plant would require a common 125-foot-wide construction right-of-way and a 75-foot-wide easement for operation. The brine pipelines would require a 75-foot-wide construction right-of-way and a 50-foot-wide operational easement. About 4.4 acres of additional temporary workspace would be required at the crossings of roads, waterbodies, and wetlands. At this time, Atmos has identified one 1.3-acre area within the storage field that it would use for construction staging.

Based on preliminary information, construction of the proposed project facilities would affect a total of about 168.6 acres of land (including construction right-of-ways and aboveground facilities). This does not include land that would be disturbed by lay down areas, which is still being determined. Following construction, about 67.2 acres would be maintained as permanent right-of-way, about 30.6 acres of land would be maintained as new aboveground facility sites, and about 5.6 acres would be used for access roads. The remaining 56.2 acres of temporary construction rights-of-way and any other additional areas required for extra workspaces, pipe storage or contractor yards would be restored and allowed to revert to its former use.

After the storage caverns are developed, Atmos anticipates that it would abandon the leaching plant, water supply wells, brine disposal wells, and related water and brine pipelines. Atmos would file an application with the FERC to abandon these facilities when appropriate.

The EA Process

The National Environmental Policy Act (NEPA) requires the Commission to take into account the environmental impacts that could result from an action when it considers whether or not an interstate natural gas pipeline should be approved. The FERC will use the EA to consider the environmental impact that could result if Atmos's project is authorized under section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

Our independent analysis of the issues will be included in the EA. We will also evaluate possible alternatives to the proposed project or portions of the project, and make recommendations on how to lessen or avoid impacts on affected resources.

The EA will be mailed to federal, state, and local government agencies; elected officials; environmental and public interest groups; Native American tribes; affected landowners; commentors; other interested parties; local libraries and newspapers; and the FERC's official service list for this proceeding. To ensure that your comments are considered, please follow the instructions in the Public Participation section of this notice.

Although no formal application has been filed, the FERC staff has already initiated its NEPA review under its Pre-filing Process. The purpose of the Pre-filing Process is to encourage the early involvement of interested stakeholders and to identify and resolve issues before an application is filed with the FERC.

With this notice, we are asking federal, state, and local governmental agencies with jurisdiction and/or special expertise with respect to environmental issues, to express their interest in becoming cooperating agencies for the preparation of the EA. These agencies may choose to participate once they have evaluated the proposal relative to their responsibilities. Agencies that would like to request cooperating status should follow the instructions for filing comments provided below (see Public Participation).

Currently Identified Environmental Issues

The EA will discuss impacts that could occur as a result of the construction and operation of the proposed project. We have already identified several issues that we think deserve attention based on a preliminary review of the project site and the facility information provided by Atmos. This preliminary list of issues may be changed based on your comments and our analysis.

• Potential impacts due to construction of the storage caverns by salt leaching.

• Temporary and permanent impacts on wetlands and development of appropriate mitigation.

• Native American and tribal concerns.

• Potential impacts to fish and wildlife habitat, including waterbird nesting areas and migrating birds.

• Potential effect on federally and state-listed species.

• Potential impacts to existing land uses.

• Potential visual effects of the aboveground facilities on surrounding areas.

• Potential impacts and potential benefits of construction workforce on local housing, infrastructure, public services, and economy.

• Potential impacts to local air and noise quality associated with construction and operation.

• Alternative alignments for the pipeline routes and alternative sites for the aboveground facilities.

• Public safety and potential hazards associated with the transport of natural gas and the proposed compressor facilities.

Public Participation

You can make a difference by providing us with your specific comments or concerns about the proposed project. By becoming a commentor, your concerns will be addressed in the EA and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of Gas Branch 2.

• Reference Docket No. PF08-10-000 on the original and both copies.

• Mail your comments so that they will be received in Washington, DC on or before June 13, 2008.

Please note that the Commission strongly encourages electronic filing of any comments or interventions or protests to this proceeding. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

Once Atmos formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you received this notice, you are on the environmental mailing list for this project. If you do not want to send comments at this time, but still want to remain on our mailing list, please return the Information Request (Appendix 3). If you do not return the Information Request, you will be removed from the Commission's environmental mailing list.

Availability of Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-21) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Site visits will be posted on the Commission's calendar located at http://www.ferc.gov/EventCalendar/EventsList.aspx along with other related information.

Finally, Atmos has established an Internet Web site for this project at www.atmosenergy.com/fortnecessity. The Web site includes a description of the project, a map of the proposed storage facility and pipeline routes, and answers to frequently asked questions. You can also request additional information or provide comments directly to Atmos at 1-(888) 877-4006 or fortnecessity@atmosenergy.com.

Kimberly D. Bose,
Secretary.

[FR Doc. E8-11331 Filed 5-20-08; 8:45 am]

BILLING CODE 6717-01-P